DEPARTMENT OF COMMERCE

International Trade Administration

[A-570-806]

Notice of Extension of Time Limit for Preliminary Results of Antidumping New Shipper Review: Silicon Metal From the People's Republic of China

EFFECTIVE DATE: January 2, 2002.

FOR FURTHER INFORMATION CONTACT: Jacqueline Arrowsmith or Maureen Flannery, Office of AD/CVD Enforcement VII, Import Administration, International Trade Administration, U.S. Department of Commerce, 14th Street and Constitution Avenue, N.W., Washington DC 20230; telephone: (202) 482-5255 or (202) 482-3020, respectively.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

In accordance with 19 CFR 351.213(b)(2), on June 29, 2001, the Department received the timely and properly filed June 28, 2001 request from Groupstars Chemical Company, Ltd., that we conduct a new shipper review of its sales of silicon metal. On July 31, 2001, the Department initiated a new shipper review of the antidumping duty order on silicon metal for the period of review (POR) of June 1, 2000 through May 31, 2001 (66 FR 41508).

Extension of Time Limit for Preliminary Results

Section 351.214(i)(1) of the Department's regulations requires the Department to issue preliminary results of a new shipper review within 180 days of the date of initiation. However, if the Secretary concludes that a new shipper review is extraordinarily complicated, the Secretary may extend the 180-day period to 300 days under section 351.214(i)(2) of the Department's regulations. Because of the problems the respondent has encountered in meeting the Department's filing requirements and the resultant delay to the analysis and verification, we find this review to be extraordinarily complicated.

Therefore, in accordance with section 351.214(i)(2) of the regulations, the Department is extending the 180-day time limit to 300 days. Since the 300th day falls on a federal holiday, the due date for the preliminary results is now the next business day, May 28, 2002. The final results will continue to be due 90 days after the date of issuance of the preliminary results.

Dated: December 20, 2001.
Joseph A. Spetrini,
Deputy Assistant Secretary for Import Administration, Group III.

[FR Doc. 01-32248 Filed 12-31-01; 8:45 am]

BILLING CODE 3510-DS-P